INTERNATIONAL TRADE COMMISSION

[Investigation No. 731-TA-539-C (Third Review)]

Uranium From Russia

Determination

On the basis of the record ¹ developed in the subject five-year review, the United States International Trade Commission (Commission) determines, pursuant to section 751(c) of the Tariff Act of 1930 (19 U.S.C. 1675(c)), that termination of the suspended investigation on uranium from Russia would be likely to lead to continuation or recurrence of material injury to an industry in the United States within a reasonably foreseeable time.²

¹ The record is defined in sec. 207.2(f) of the Commission's Rules of Practice and Procedure (19 CFR 207.2(f)).

² Chairman Deanna Tanner Okun did not participate in this review.

Background

The Commission instituted this review on July 1, 2011 (76 FR 38694) and determined on October 4, 2011 that it would conduct an expedited review (76 FR 64107, October 17, 2011).

The Commission transmitted its determination in this review to the Secretary of Commerce on February 27, 2012. The views of the Commission are contained in USITC Publication 4307 (February 2012), entitled Uranium from Russia: Investigation No. 731-TA-539-C (Third Review).

By order of the Commission.
Issued: February 27, 2012.
James R. Holbein,
Secretary to the Commission.

[FR Doc. 2012-5045 Filed 3-1-12; 8:45 am]

BILLING CODE 7020-02-P